DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: National Survey of Fishing, Hunting, and Wildlife-associated Recreation (FHWAR) Pre-screener Test.

OMB Control Number: None

Form Number(s): FH-PS(T), FHW-Q1, FHW-W1, FHW-QW1, FHW-Q2, FHW-W2, FHW-QW2, FHW-Q3, FHW-W3, FHW-QW3.

Type of Request: New collection.

Burden Hours: 1,750.

Number of Respondents: 15,000.

Average Hours per Response: 7 minutes.

Needs and Uses: The U.S. Fish and Wildlife Service (FWS) and the U.S. Census Bureau conducted (under separate Office of Management and Budget (OMB) clearance number 1018-0088) the 2011 National Survey of Fishing, Hunting, and Wildlife-Associated Recreation (FHWAR) from April 2011 through May 2012. The FHWAR is authorized under the Fish and Wildlife Act of 1956 and the Wildlife and Sport Fish Restoration Programs Improvement Act of 2000. The Census Bureau is authorized to conduct the FHWAR under Title 13, United States Code Section 8(b). The FHWAR data, collected approximately every five years, assist Federal and State agencies in administering the Sport Fish and Wildlife Restoration grant programs and provide up-to-date information on the uses and demands for wildlife-related recreation resources, trends in uses of those resources, and a basis for developing and evaluating programs and projects to meet existing and future needs.

The FHWAR is an address-based survey conducted in three waves whose sample is selected from the Master Address File. In 2011, because of limited funding, we had to modify our data collection procedure from computer-assisted personal interviewing (CAPI) to mostly computer-assisted telephone interviewing (CATI) with limited CAPI to stay within budget. In an attempt to collect household phone numbers for CATI, we had the telephone center conduct a telephone research operation and we matched our addresses to a locating vendor. Unfortunately, neither operation had a high success rate in obtaining the correct phone numbers for our addresses. This caused the Wave 1 CATI response rates to plummet. Wave 2 and Wave 3 CATI did better because the majority of the telephone numbers were provided by the respondents in Wave 1.

Because our 2011 methodology for obtaining phone numbers did not work as expected, we (Census and FWS) would like to research new methodologies to collect household phone numbers for our sample addresses through a pre-screener test. The purpose of the test will be to determine what percentage of households will return a mail or Internet questionnaire with a telephone number that reaches the sample address. This proposed research is directly related to the 2011 FHWAR and is vital for future iterations of the survey since the majority of interviewing will continue in CATI which is less expensive than CAPI.

The pre-screener test is a two-part test. The first part of the test is a mail operation that will ask household respondents to complete a pre-screener survey by paper questionnaire or by Internet for the purpose of obtaining household telephone numbers, verifying the sample address, and obtaining general household-level information on hunting, fishing, and wildlife watching activities. The mail operation will include three panels. The first panel will receive a letter and a self-administered paper pre-screener questionnaire. The letter will ask a household member to complete the paper questionnaire and to return it by mail to the Census Bureau. The second panel will receive a letter with an Internet invitation for a household member to complete the pre-screener on the Internet. The third panel will receive a letter, paper questionnaire, and information on how to complete an interview by Internet. In this panel, the household member is given a choice for conducting the pre-screener by paper or by Internet. We estimate that both the paper and Internet pre-screener will take approximately 5 minutes to complete. If a household does not complete the pre-screener in the requested time frame, we will mail up to two additional packages (that include the same materials as the initial mailing) requesting the household's participation. The sample size for each of the panels will be 5,000 sample households.

The second part of the test is a telephone follow-up operation in which we will verify that the phone numbers collected from the mail and Internet pre-screener either reached, or did not reach, the sample addresses. This telephone interview will last approximately 2 minutes.

Since our methodology for reaching our sample addresses by telephone for the 2011 FHWAR yielded poor results, we need to research and analyze alternative methods to help us obtain household phone numbers for the 2016 FHWAR. If we find a methodology that is successful, we will use the results internally to determine the percentage of pre-screeners needed to obtain the 2016 FHWAR sample workload.

Affected Public: Individuals or households.

Frequency: One-time.

Respondent's Obligation: Voluntary.

Legal Authority: Title 13 U.S.C., Section 8(b).

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: May 14, 2013.
Glenna Mickelson,
Management Analyst, Office of the Chief Information Officer.

[FR Doc. 2013-11835 Filed 5-17-13; 8:45 am]

BILLING CODE 3510-07-P